FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010051-033.

Title: Mediterranean Space Charter Agreement.

Parties: Evergreen Marine Corp. (Taiwan) Ltd.; Farrell Lines, Inc.; Hapag-Lloyd Container Linie GmbH; Italia di Navigazione, LLC; Lykes Lines Limited, LLC; A.P. Moller-Maersk A/S; Mediterranean Shipping Company S.A.; P&O Nedlloyd B.V.; P&O Nedlloyd Limited; and Zim Israel Navigation Co., Ltd.

Synopsis: The amendment updates the corporate names of A.P. Moller-Maersk and Italia di Navigazione.

Agreement No.: 011233-016.

Title: USA Southern and Eastern Africa Discussion Agreement.

Parties: A.P. Moller-Maersk Sealand, Mediterranean Shipping Company, and Safmarine Line, Ltd., as members of the U.S./Southern Africa Conference, and Gulf Africa Line and Lykes Lines Limited, LLC.

Synopsis: The amendment removes P&O Nedlloyd Limited as a party to the agreement and changes the address of the agreement's offices.

Agreement No.: 011290-032.

Title: International Vessel Operators Hazardous Material Association Agreement.

Parties: Aliança Navegacao e Logistica Ltda.; APL Co. PTE Ltd.; Atlantic Container Line AB; Australia-New Zealand Direct Line; Bermuda Container Line; Canada Maritime Agencies Ltd.; China Shipping Container Lines Co., Ltd.; CMA CGM, S.A.; Compania Latino Americana de Navegacion SA; Contship Containerlines; Crowley Maritime Corporation; Evergreen Marine Corp. (Taiwan) Ltd.; Hamburg-Südamerikanische Dampfschifffahrts-gesellschaft KG; Hanjin Shipping Co., Ltd.; Hapag-Lloyd Container Linie GmbH; Horizon Lines, LLC; Hyundai Merchant Marine Co., Ltd.; Independent Container Line Ltd.; Italia di Navigazione, LLC; Kawasaki Kisen Kaisha Ltd.; Lykes Lines Limited, LLC; Marine Transport Lines, Inc.; Maruba SCA; Mediterranean Shipping Co. S.A.; Mitsui O.S.K. Lines, Ltd.; A.P. Moller-Maersk A/S; National Shipping Co. of Saudi Arabia; Nippon Yusen Kaisha Line; Orient Overseas Container Line Limited; P&O Nedlloyd B.V.; P&O Nedlloyd Limited; Safmarine Container Lines; Seaboard Marine Ltd.; Senator Lines GmbH; TMM Lines Limited; Tropical Shipping & Construction Co., Ltd.; United Arab Shipping Co. S.A.G.; Yang Ming Marine Transport Corp.; and Zim Israel Navigation Company, Ltd.

Synopsis: The amendment adds United Arab Shipping Co. as a party to the agreement, updates the corporate names of Italia di Navigazione and Horizon Lines, and clarifies Senator Lines' status as an associate agreement party.

Agreement No.: 011642-007.

Title: East Coast United States/East Coast of South America Vessel Sharing Agreement.

Parties: A.P. Moller-Maersk A/S; Safmarine Container Lines N.V.; P&O Nedlloyd Limited; P&O Nedlloyd B.V.; Mercosul Line Navegacao e Logistica Ltda.; Compania Sud Americana de Vapores, S.A.; Companhia Libra de Navegacao; Alianca Navegacao e Logistica Ltda.; and Hamburg-Sud.

Synopsis: The modification updates the corporate names of A.P. Moller-Maersk and Mercosul Line, removes references to Hamburg-Sud's former trade names, and deletes obsolete references to a discontinued vessel string.

Agreement No.: 011689-006.

Title: Zim/CSCL Space Charter Agreement.

Parties: China Shipping Container Lines Co. Ltd. and Zim Israel Navigation Company, Ltd.

Synopsis: The modification removes certain limitations on China Shipping regarding its utilization of space on Zim's vessels and adds Pusan as a port of call under the agreement. The parties request expedited review.

Agreement No.: 011869.

Title: Haiti Shipping Lines/Frontier Liner Services Space Charter and Sailing Agreement.

Parties: Frontier Liner Services, Inc. Haiti Shipping Lines, Inc.

Synopsis: The agreement would authorize Frontier to make slots available to Haiti Shipping Lines in the trade between Port Everglades, Florida, and Cap Haitien, Haiti. The parties request expedited review.

Dated: February 6, 2004.
By Order of the Federal Maritime Commission.
Bryant L. VanBrakle,
Secretary.

[FR Doc. 04-3002 Filed 2-10-04; 8:45 am]

BILLING CODE 6730-01-P